DEPARTMENT OF AGRICULTURE

Forest Service

West Fork Blacks Fork Allotment Management Plan; Wasatch-Cache National Forest, Summit County, UT

AGENCY: Forest Service, USDA.

ACTION: Notice of intent to prepare an environmental impact statement.

SUMMARY: The Wasatch-Cache National Forest will prepare an environmental impact statement (EIS) on a proposal to authorize continued livestock grazing on the West Fork Blacks Fork allotment encompassing approximately 15,028 acres of National Forest System lands in the West Fork Blacks Fork Watershed in Summit County, Utah. The analysis area is located in portions of the following townships: T2NR11E, T1NR11E, T1NR12E, Salt Lake Meridian, and T5NR7W, Uinta Meridian.

DATES: Comments concerning the scope of the analysis must be received on or before April 18, 2003. The draft environmental impact statement is expected in June 2003 and the final environmental impact statement is expected in September 2003.

ADDRESSES: Send written comments to District Ranger, Evanston Ranger District, P.O. Box 1880, Evanston, Wyoming 82930. E-mail address is lljohnson01@fs.fed.us.

FOR FURTHER INFORMATION CONTACT: For further information, mail correspondence to or contact Stephen Ryberg, District Ranger, at the Evanston District, 1565 Hwy 150, Suite A, Evanston Wyoming 82930. The telephone number is 307-789-1394.

SUPPLEMENTARY INFORMATION:

Purpose and Need for Action

The purpose of this action is to authorize livestock grazing within the West Fork Blacks Fork Allotment to achieve the desired future conditions identified in the Wasatch-Cache Forest Plan. The action is needed because some areas (alpine benches) within the allotment do not meet ground cover standards. There is scientific debate about why these areas do not have adequate ground cover and how they should be managed. The allotment management plan developed from this analysis will emphasize management for healthy riparian, upland, and alpine ecosystems. Most of this allotment was incorporated into the High Uintas Wilderness under the Utah Wilderness Act of 1984. This Act incorporated Section 108 of the Colorado Wilderness Act which included House Committee Report Language stating: “* * * there shall be no curtailment of grazing permits or privileges in an area simply because it is designated as wilderness”. If approved, the Wasatch-Cache National Forest would authorize grazing through term grazing permits for up to 10 years. The EIS will be designed to satisfy the requirements of the Federal Land Policy and Management Act of 1976 and implementing regulations (43 CFR 2310.1). A number of laws provide direction for grazing on public lands, including the Multiple-Use Sustained Yield Act (1960), the Wilderness Act (1964), the Utah Wilderness Act (1984), the Forest and Rangeland Renewable Resources Planning Act (1974), the Federal Land Policy and Management Act (1976), and the National Forest Management Act (1976). The Wasatch-Cache National Forest LRMP also contains provisions to implement this direction.

Proposed Action

The Forest Service proposes to authorize continued grazing on National Forest Systems lands on the West Fork Blacks Fork sheep allotment within the West Fork Blacks Fork watershed. Sheep grazing would continue during the period of 7/6 to 9/15 each year under a four pasture deferred grazing system meeting the direction in the Wasatch-Cache Forest Plan. Following an agreement with the grazing permittee in 1999, half of the highest unit has been rested each year with an accompanying reduction in sheep months to compensate for the sheep months of forage not available for grazing in the rested portion. This change allows 1075 sheep to graze 7/6-9/15 under deferred rotation system with planned rest for the alpine area. Half of the alpine unit is rested each year and each half receives rest for two consecutive years. This agreement resulted in a reduction of 175 sheep* from what was allowed under the current West Fork Blacks Fork Allotment Management Plan.

The updated direction will be incorporated into the allotment management plan and the term grazing permit to guide grazing management within the allotment during the coming decade, or until amendments are warranted based on changed conditions or monitoring.

* The sheep numbers given are the number of mother sheep (ewes). These numbers assume that each ewe will be accompanied with her current year's offspring (lambs).

Possible Alternatives

In addition to the proposed action we have tentatively identified two alternatives:

—No Grazing Alternative: Eliminate permitted grazing on the West Fork-Blacks Fork Allotment except for one trail herd that uses the allotment as an access route to the Ashley National Forest.

—Eliminate Grazing on Unit 4 of the Grazing Allotment: Continue to graze sheep under a three pasture deferred grazing system meeting Forest Plan direction. This charge allows 900 sheep to graze 7/6-9/15, a reduction of 300 sheep from the numbers allowed under the current West Fork Blacks Fork Allotment Management Plan

Responsible Official

Thomas L. Tidwell, Forest Supervisor, Wasatch-Cache National Forest, USDA Forest Service, 8236 Federal Building, 125 South State Street, Salt Lake City, UT 84138, is the Responsible Official for any decision to authorize grazing and manage rangelands on the allotment within the West Fork Blacks Fork watershed on National Forest system lands. He will document his decisions and rationale in a Record of Decision.

Nature of Decision To Be Made

Based upon the environmental analysis in the EIS the Forest Supervisor will decide whether or not to authorize sheep grazing on the West Fork Blacks Fork Allotment, and if so under what conditions.

Scoping Process

The public is encouraged to take part in the scoping process and is encouraged to visit with Forest Service officials at any time during the analysis and prior to the decision. The Forest Service will be seeking information, comments and assistance from Federal, State and local agencies and other individuals or organizations that may be interested in, or affected by, the proposed action. While public participation in this analysis is welcome at any time, comments received within 30 days of the publication of this notice will be especially useful in the preparation of the Draft EIS. An informational meeting is scheduled for 1 pm on March 26, 2003 at the Unita County Library, 701 Main, Evanston, Wyoming. Information from the informational meeting will be used in the preparation of the draft and final EIS.

Comment Requested

This notice of intent initiates the scoping process which guides the development of the environmental impact statement.

Early Notice of Importance of Public Participation in Subsequent Environmental Review

A draft environmental impact statement which be prepared for comment. The comment period on the draft environment impact statement will be 45 days from the date the Environmental Protection Agency publishes the notice of a availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: March 19, 2003.
Thomas L. Tidwell,
Forest Supervisor.

[FR Doc. 03-7177 Filed 3-25-03; 8:45 am]

BILLING CODE 3410-11-M